DEPARTMENT OF AGRICULTURE

Forest Service

Information Collection; Interagency Generic Clearance for Federal Land Management Agencies Collaborative Visitor Surveys on Recreation and Transportation Related Programs and Systems

AGENCY: Forest Service, USDA.

ACTION: Notice; request for comment.

SUMMARY: In accordance with the Paperwork Reduction Act of 1995, the Forest Service is seeking public comment on reapproval of a currently approved information collection request, Interagency Generic Clearance for Federal Land Management Agencies Collaborative Visitor Surveys on Recreation and Transportation Related Programs and Systems.

DATES: Comments must be received in writing by December 11, 2023.

ADDRESSES: Comments concerning this notice should be addressed to Kenli Kim via mail at USDA Forest Service, Yates Building, 201 14th Street SW, Washington, DC 20520 or email at kenli.kim@usda.gov or to Nicholas Grisham via mail at Transportation Systems Planner, U.S. Department of Transportation, Federal Highway Administration, Office of Federal Lands Highway, 610 East 5th Street, Vancouver, WA 98661 or email at nicholas.grisham@dot.gov.

All timely comments, including names and addresses, will be placed in the record and will be available for public inspection and copying. The public may inspect comments received at USDA Forest Service, Yates Building, 201 14th Street SW, Washington, DC 20520, during normal business hours. Visitors are encouraged to call ahead to 202-205-0925 to facilitate entry into the building.

FOR FURTHER INFORMATION CONTACT: Kenli Kim, USDA Forest Service, kenli.kim@usda.gov or 202-205-0925, or Nicholas Grisham, U.S. Department of Transportation, nicholas.grisham@dot.gov or 202-839-1409.

Individuals who use telecommunication devices for the hearing impaired (TDD) may call the Federal Relay Service at 800-877-8339 between 8:00 a.m. and 8:00 p.m., Eastern Time, Monday through Friday.

SUPPLEMENTARY INFORMATION:

Title: Interagency Generic Clearance for Federal Land Management Agencies Collaborative Visitor Surveys on Recreation and Transportation Related Programs and Systems.

OMB Number: 0596-0236.

Expiration Date of Approval: March 31, 2024.

Type of Request: Reapproval of a currently approved information collection request.

Abstract: Federal land management agencies (FLMAs) need to acquire visitor and user feedback about site- and area-specific recreational services and facilities and supporting road, trail, and other transportation programs and systems. FLMAs include but are not limited to the USDA Forest Service; U.S. Department of the Interior National Park Service, Bureau of Land Management, U.S. Fish and Wildlife Service, Bureau of Reclamation, U.S. Geological Survey, and Presidio Trust; and U.S. Army Corps of Engineers.

Visitor feedback allows the FLMAs to enhance customer service by establishing and revising objectives for FLMA recreational services and facilities and recreation-related transportation programs and systems; inform FLMA land use plans; and facilitate interagency coordination across FLMA jurisdictions. This feedback augments the ability of FLMAs to meet the recreational needs of the public and more effectively utilize the resources under FLMA management. In addition, this generic, interagency information collection request saves visitor and agency time and costs by allowing multiple FLMAs in an area to work jointly on data collection. The information collected may also help FLMAs respond to queries from the public, Congressional staffs, the media, and transportation and recreation organizations.

The authorities for the FLMAs to conduct public surveys on recreation and supporting transportation programs and systems include:

• Forest Service Organic Administration Act of 1897.

• Forest Service Multiple Use-Sustained Yield Act.

• National Park Service Act of 1916.

• National Wildlife Refuge System Administration Act of 1966.

• National Wildlife Refuge System Centennial Act.

• Federal Land Policy and Management Act of 1976.

• Government Performance and Results Act of 1993.

Respondents include visitors and potential visitors to FLMA-managed lands and residents of communities in or near those lands, as well as state, local, or Tribal agency staff who are involved with public land management and businesses operating on or near FLMA-managed lands. Many of the FLMA information collections may be similar in terms of the populations surveyed, types of questions asked, research methods, and data applications. The information collection may occur at one location, several locations, across FLMA units, across regions, or nationally and may be multi-jurisdictional at any of these levels. The information collection may occur once, multiple times over a short time period, or periodically over a long period. Individual, organizational, agency, or business feedback could be collected through facilitated focus groups, in-person or telephonic interviews, or electronic or handwritten comment cards or questionnaires. Potential participants may be contacted at pertinent sites, including FLMA access points, or pre- or post-visit.

In general, questions relate to recreational use of one or more specific locations on FLMA-managed lands and may address one or more of the following:

• Mobility and access, such as different transportation modes used to access sites; satisfaction with transportation-related services and facilities; use and satisfaction with traveler information; reasons for non-visitation.

• Resource management, such as support for different management approaches.

• Safety, for example, safety-related incidents that have occurred.

• Environment, including for example visitor priorities with respect to natural and cultural resources and perceptions related to sound.

• Economic development, such as the amount of money visitors spend in an area.

• Trip characteristics, for example, length of trip and trip purpose, activities, and destinations.

• Visitor or user demographics and use data, such as city and state of residence, age group, gender, race, and number of people or vehicles in a party.

All results are aggregated so that specific responses cannot be connected to specific respondents. If any names, addresses, or telephone numbers are collected, FLMAs will not store that information with responses. Contact information will be purged from FLMAs' files once data collections are completed.

Participation in the FLMA surveys, interviews, focus groups, and other data collections under this information collection is strictly voluntary. The information may be collected and analyzed by FLMA personnel, private contractors, other federal agencies, or universities or other educational institutions conducting the information collection on behalf of the FLMAs. All results will be aggregated so specific responses cannot be connected to specific respondents.

Without coordinated information collections on recreation and supporting transportation programs and systems on federal land, the FLMAs will lack the information necessary to identify and implement improvements in recreational services and facilities and supporting transportation programs and systems that address public needs, protect federal land and resources, and enhance the visitor experience. These information collections will become more important as demand for access to FLMA recreation sites and opportunities continues to grow.

Estimated Annual Burden per Respondent: 0.35 hour for surveys, 1.5 hours for focus groups, 1 hour for interviews, and 0.05 hour for comment cards.

Type of Respondents: Individuals and households, businesses and non-profit organizations, and state, local, and Tribal governments.

Estimated Annual Number of Respondents: 50,000.

Estimated Annual Number of Responses per Respondent: 1.

Estimated Total Annual Burden on Respondents: 8,000 hours.

Comment Is Invited

Comment is invited on (1) whether this information collection request is necessary for the stated purposes and the proper performance of the functions of the FLMAs, including whether the information collected will have practical or scientific utility; (2) the accuracy of the Forest Service's estimate of the burden of the information collection request, including the validity of the methodology and assumptions used; (3) ways to enhance the quality, utility, and clarity of the information to be collected; and (4) ways to minimize the burden of the information collection request on respondents, including the use of automated, electronic, mechanical, or other technological collection techniques or other forms of information technology.

All comments received in response to this notice, including names and addresses when provided, will be a matter of public record. Comments will be summarized and included in the submission request for Office of Management and Budget approval.

David Lytle,
Deputy Chief, Research and Development.

[FR Doc. 2023-22459 Filed 10-11-23; 8:45 am]

BILLING CODE 3411-15-P